DEPARTMENT OF COMMERCE

International Trade Administration

Notice of Scope Rulings

AGENCY: Enforcement and Compliance, International Trade Administration, Department of Commerce.

DATES: Applicable December 8, 2021.

SUMMARY: The Department of Commerce (Commerce) hereby publishes a list of scope rulings and anti-circumvention determinations made during the period July 1, 2021, through September 30, 2021. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on August 25, 2021.² This current notice covers all scope rulings and anti-circumvention determinations made by Enforcement and Compliance between July 1, 2021 and September 30, 2021.

¹ See 19 CFR 351.225(o).

² See Notice of Scope Rulings, 86 FR 47476 (August 25, 2021).

Scope Rulings Made July 1, 2021, Through September 30, 2021

India

A-533-885 and C-533-886: Polyester Textured Yarn From India

Requestor: AYM Syntex Ltd. Flat bulk continuous filament (BCF) yarn produced from polybutylene terephthalate (PBT) is outside the scope of the antidumping duty (AD) and countervailing duty (CVD) orders on polyester textured yarn from India based on the plain language of the scope, which states that subject merchandise consists of “synthetic multifilament yarn” that is manufactured from polyester (polyethylene terephthalate); September 15, 2021.

People's Republic of China (China)

A-570-067 and C-570-068: Forged Steel Fittings From China

Requestor: Midwest Diversified Technologies, Inc. Fifteen self-drilling anchor bolt systems couplers are not covered by the scope of the AD and CVD orders on forged steel fittings from China because they are not designed to connect pipes and cannot convey fluid at high pressure; July 1, 2021.

A-570-090 and C-570-091: Certain Steel Wheels 12 to 16.5 Inches in Diameter From China

Requestor: Rimco, Inc. (Rimco). Rimco's passenger vehicle wheel model number X45477 is outside the scope of the AD and CVD orders because it is physically distinguishable from subject steel wheels based on: (1) A different hub bore size; (2) a different offset measurement; and (3) a lower load rating; July 9, 2021.

A-570-084 and C-570-085: Quartz Surface Products From China

Requestor: SMA Surfaces, Inc. SMA Surfaces' crushed glass products are covered by the scope of the AD and CVD orders on quartz surface products from China because they do not meet the language of the crushed glass scope exclusion; July 15, 2021.

A-570-831: Garlic From China

Requestor: Trinity Distribution Inc. (Trinity). Based on our analysis of Trinity's Request, and in accordance with 19 CFR 351.225(d) and 351.225(k)(1), we determined that Trinity's individually quick frozen (IQF) garlic cloves from China are within the scope of the AD order; July 21, 2021.

A-570-909: Certain Steel Nails From China

Requestor: Fastenal Company Purchasing (Fastenal). Fastenal's zinc and nylon masonry anchors, which consist of a zinc, steel, or nylon body component and a steel pin component, are outside the scope of the AD order. Consistent with the U.S. Court of Appeals for the Federal Circuit's reasoning in OMG, Inc. v. United States, we find that Fastenal's masonry anchors are unitary articles of commerce, and that they are not nails because they require pre-drilled holes for installation. This is a revision, based on litigation, to our previous scope ruling. See Certain Steel Nails from the People's Republic of China: Notice of Court Decision Not in Harmony With Final Scope Ruling and Notice of Amended Final Scope Ruling Pursuant to Court Decision, 86 FR 38675 (July 22, 2021).

A-570-909: Certain Steel Nails From China

Requestor: Midwest Fastener Corp. (Midwest). Midwest's strike pin anchors, which consist of four components—a steel pin, a threaded body, a nut, and a flat washer—are outside the scope of the AD order. Consistent with the U.S. Court of Appeals for the Federal Circuit's reasoning in OMG, Inc. v. United States, we find that Midwest's anchors are unitary articles of commerce, and that they are not nails because they require pre-drilled holes for installation. This is a revision, based on litigation, to our previous scope ruling. See Certain Steel Nails from the People's Republic of China: Notice of Court Decision Not in Harmony With Final Scope Ruling and Notice of Amended Final Scope Ruling Pursuant to Court Decision, 86 FR 38979 (July 23, 2021).

A-570-831: Garlic From China

Requestor: Trinity Distribution Inc. (Trinity). In accordance with 19 CFR 351.225(d) and 351.225(k)(1), we determined that Trinity's individually quick frozen (IQF) ⅛-inch diced garlic and IQF garlic puree, are not within the scope of the AD order; July 22, 2021.

A-570-952 and C-570-953: Narrow Woven Ribbons With Woven Selvedge From China

Requestor: D&F Consolidated, Inc., DBA Car-Mel Products Inc. Three label tapes are covered by the scope of the AD and CVD orders on narrow woven ribbon with woven selvedge from China because they meet the physical specifications outlined by the scope and do not qualify for an exclusion; July 27, 2021.

A-570-909: Certain Steel Nails From China

Requestor: Simpson Strong-Tie Company (Simpson). Simpson's split-drive masonry anchors are outside the scope of the AD order. Consistent with the U.S. Court of Appeals for the Federal Circuit's reasoning in OMG, Inc. v. United States, we find that Simpson's masonry anchors are not nails because the anchors require pre-drilled holes for installation. This is a revision, based on litigation, to our previous scope ruling. See Certain Steel Nails from the People's Republic of China: Notice of Court Decision Not in Harmony With Final Scope Ruling and Notice of Amended Final Scope Ruling Pursuant to Court Decision, 86 FR 43994 (August 11, 2021).

A-570-909: Certain Steel Nails From China

Requestor: Simpson Strong-Tie Company (Simpson). Simpson's crimp drive anchors are outside the scope of the AD order. Consistent with the U.S. Court of Appeals for the Federal Circuit's reasoning in OMG, Inc. v. United States, we find that Simpson's masonry anchors are not nails because the anchors require pre-drilled holes for installation. This is a revision, based on litigation, to our previous scope ruling. See Certain Steel Nails from the People's Republic of China: Notice of Court Decision Not in Harmony With Final Scope Ruling and Notice of Amended Final Scope Ruling Pursuant to Court Decision, 86 FR 43993 (August 11, 2021).

A-570-073 and C-570-074: Common Alloy Aluminum Sheet From China

Requestor: Sunbeam Products Inc. Stamped circular disc blanks are not covered by the scope of the AD and CVD orders on common alloy aluminum sheet from China because stamped circular disc blanks are stamped or punched from aluminum sheet in China, are in non-rectangular shapes and are no longer in coils or cut-to-length sheets when exported from China, and the punching of these stamped circular disc blanks has the functional purpose of preparing the discs to be pressed into circular vessels such as pots and pans; August 20, 2021.

A-570-108 and C-570-109: Ceramic Tile From China

Requestor: Maryland Mosaics, LLC. Decorative ceramic tile mosaic pieces in heart, star, circle, and petal shapes are covered by the scope of the AD and CVD orders on ceramic tile from China because they are tiles made from porcelain and fall within the tile sizes covered by the scope; August 31, 2021.

A-570-117 and C-570-118: Wood Mouldings and Millwork Products From China

Requestor: Greenbrier International, Inc. and Family Dollar Services, LLC. Craft dowels are covered by the scope of the AD and CVD orders on wood mouldings and millwork products from China because they are dowels made of wood and continuously shaped; September 7, 2021.

Notification to Interested Parties

Interested parties are invited to comment on the completeness of this list of completed scope inquiries and anti-circumvention determinations made during the period July 1, 2021 through September 30, 2021. Any comments should be submitted to the Deputy Assistant Secretary for Antidumping and Countervailing Duty Operations, Enforcement and Compliance, International Trade Administration, via email to CommerceCLU@trade.gov.

This notice is published in accordance with 19 CFR 351.225(o).

Dated: December 2, 2021.
James Maeder,
Deputy Assistant Secretary for Antidumping and Countervailing Duty Operations.

[FR Doc. 2021-26552 Filed 12-7-21; 8:45 am]

BILLING CODE 3510-DS-P